DEPARTMENT OF JUSTICE

Notice of Lodging of Proposed Consent Decrees Under the Comprehensive Environmental Response, Compensation and Liability Act

On July 19, 2019, the Department of Justice lodged two proposed Consent Decrees with the United States District Court for the Southern District of New York in a lawsuit entitled United States v. Hopewell Precision, Inc., Civil Action No. 19 Civ. 6749.

In this action, the United States seeks, as provided under the Comprehensive Environmental Response, Compensation and Liability Act, recovery of response costs from two parties in connection with the Hopewell Precision Superfund Site (“Site”) in the Town of East Fishkill, New York. The proposed Consent Decrees resolve the United States' claims and require Hopewell Precision, Inc. and John B. Budd to pay, in aggregate, $1,247,700 in reimbursement of the United States' past and ongoing response costs regarding the Site.

The publication of this notice opens the public comment period on the proposed Consent Decrees. Comments should be addressed to Jeffrey Bossert Clark, Assistant Attorney General, Environment and Natural Resources Division, and should refer to United States v. Hopewell Precision, Inc., Civil Action No. 19 Civ. 6749, D.J. Ref. 90-11-3-11193. All comments must be submitted no later than 30 days after the publication date of this notice. Comments may be submitted either by email or by mail:

To submit comments: | Send them to:
By email | pubcomment-ees.enrd@usdoj.gov.
By mail | Jeffrey Bossert Clark, Assistant Attorney General, U.S. DOJ—ENRD, P.O. Box 7611, Washington, DC 20044-7611.

During the public comment period, the Consent Decrees may be examined and downloaded at this Justice Department website: http://www.usdoj.gov/enrd/Consent_Decrees.html. We will provide paper copies of the Consent Decrees upon written request and payment of reproduction costs. Please email your request and payment to: Consent Decree Library, U.S. DOJ-ENRD, P.O. Box 7611, Washington, DC 20044-7611.

Please enclose a check or money order for $4.75 (25 cents per page reproduction cost) payable to the United States Treasury.

Jeffrey Sands,
Assistant Section Chief, Environmental Enforcement Section, Environment and Natural Resources Division.

[FR Doc. 2019-16183 Filed 7-29-19; 8:45 am]

BILLING CODE 4410-15-P